DEPARTMENT OF DEFENSE

Department of the Air Force HQ USAF Scientific Advisory Board

AGENCY: Department of the Air Force, DoD.

ACTION: Notice of meeting.

SUMMARY: Pursuant to Public Law 92-463, notice is hereby given of the forthcoming meeting of the Predictive Battlespace Awareness (PBA) Study Information Integration and Prediction/ Confirmation Tools Panels. The purpose of the meeting is to allow the SAB and study leadership to gather information from Space and Naval Warfare Systems Command (SPAWAR) related to PBA information integration and prediction/confirmation tools. Because of meeting classification level, this meeting will be closed to the public.

DATES: 16 May 2002, 0800-1600L.

ADDRESSES: SPAWAR, 4301 Pacific Highway, San Diego, CA 92110.

FOR FURTHER INFORMATION CONTACT: Colonel Marian Alexander, Air Force Scientific Advisory Board Secretariat, 1180 Air Force Pentagon, Rm 5D982, Washington, DC 20330-1180, (703) 697-4811.

Pamela D. Fitzgerald,
Air Force Federal Register Liaison Officer.

[FR Doc. 02-12084 Filed 5-14-02; 8:45 am]

BILLING CODE 5001-05-U